DEPARTMENT OF DEFENSE

Department of the Navy

[Docket ID: USN-2023-HQ-0019]

Submission for OMB Review; Comment Request

AGENCY: Department of the Navy (DoN), Department of Defense (DoD).

ACTION: 30-Day information collection notice.

SUMMARY: The DoD has submitted to the Office of Management and Budget (OMB) for clearance the following proposal for collection of information under the provisions of the Paperwork Reduction Act.

DATES: Consideration will be given to all comments received by February 28, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Lane Purvis, (571) 372-0460, whs.mc-alex.esd.mbx.dd-dod-information-collections@mail.mil.

SUPPLEMENTARY INFORMATION:

Title; Associated Form; and OMB Number: Law Enforcement Officers Safety Act (LEOSA) Credential Program; SECNAV Form 5580/1; OMB Control Number: 0703-0067.

Type of Request: Extension.

Number of Respondents: 900.

Responses per Respondent: 1.

Annual Responses: 900.

Average Burden per Response: 30 minutes.

Annual Burden Hours: 450.

Needs and Uses: The Navy and the U.S. Marine Corps are requesting OMB approval of the information collection to verify and validate eligibility of separated and retired DoN law enforcement officers to ship, transport, possess or receive Government-issued or private firearms or ammunition. This will also verify and validate eligibility of separated, and retired DoN law enforcement officers to receive DoN endorsed law enforcement credentials, to include LEOSA credentials.

Affected Public: Individuals or households; State, Local or Tribal Government.

Frequency: Annually.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Mr. Lane Purvis.

Requests for copies of the information collection proposal should be sent to Mr. Purvis at whs.mc-alex.esd.mbx.dd-dod-information-collections@mail.mil.

Dated: January 23, 2024.
Aaron T. Siegel,
Alternate OSD Federal Register Liaison Officer, Department of Defense.

[FR Doc. 2024-01650 Filed 1-26-24; 8:45 am]

BILLING CODE 6001-FR-P